DEPARTMENT OF HEALTH AND HUMAN SERVICES

Administration for Children and Families

Delegation of Authority

Notice is hereby given that I have delegated to the Assistant Secretary for Children and Families, with the authority to redelegate to the Commissioner, Administration on Developmental Disabilities, which may be further redelegated, the following authority vested in the Secretary of Health and Human Services.

Authority Delegated

Authority to administer Title II, Subtitle D, Parts 2 and 5 of the Help America Vote Act of 2002, Pub. L. 107-252, 116 Stat 1666, 1698-1699, 1702-1703 (2002), 42 U.S.C. 15421-15425, 15461-15462, and as amended, hereafter.

Limitations

1. This delegation shall be exercised under the Department's existing delegation and policy on regulations.

2. This delegation shall be exercised under financial and administrative requirements applicable to all Administration for Children and Families authorities.

3. I hereby affirm and ratify any actions taken by the Assistant Secretary for Children and Families, or any other Administration for Children and Families officials, which, in effect, involved the exercise of this authority prior to the effective date of this delegation.

Effective Date

This delegation is effective immediately.

Dated: February 9, 2004.
Tommy G. Thompson,
Secretary, Department of Health and Human Services.

[FR Doc. 04-3446 Filed 2-17-04; 8:45 am]

BILLING CODE 4184-01-M